DEPARTMENT OF ENERGY

Federal Energy Regulatory Commission

[IC06-592-001, FERC 592]

Commission Information Collection Activities, Proposed Collection; Comment Request; Extension

September 29, 2006.

AGENCY: Federal Energy Regulatory Commission.

ACTION: Notice.

SUMMARY: In compliance with the requirements of section 3507 of the Paperwork Reduction Act of 1995, 44 U.S.C. 3507, the Federal Energy Regulatory Commission (Commission) has submitted the information collection described below to the Office of Management and Budget (OMB) for review and extension of this information collection requirement. Any interested person may file comments directly with OMB and should address a copy of those comments to the Commission as explained below. The Commission received no comments in response to an earlier Federal Register notice of July 26, 2006 (71 FR 42369-42370) and has made this notation in its submission to OMB.

DATES: Comments on the collection of information are due by October 31, 2006.

ADDRESSES: Address comments on the collection of information to the Office of Management and Budget, Office of Information and Regulatory Affairs, Attention: Federal Energy Regulatory Commission Desk Officer. Comments to OMB should be filed electronically, c/o oira_submission@omb.eop.gov and include the OMB Control No. as a point of reference. The Desk Officer may be reached by telephone at 202-395-4650. A copy of the comments should also be sent to the Federal Energy Regulatory Commission, Office of the Executive Director, ED-34, Attention: Michael Miller, 888 First Street, NE., Washington, DC 20426. Comments may be filed either in paper format or electronically. Those persons filing electronically do not need to make a paper filing. For paper filings an original and 14 copies of such comments should be submitted to the Secretary of the Commission, Federal Energy Regulatory Commission, 888 First Street, NE., Washington, DC 20426 and should refer to Docket No. IC06-592-001.

Documents filed electronically via the Internet must be prepared in WordPerfect, MS Word, Portable Document Format, or ASCII format. To file the document, access the Commission's Web site at http://www.ferc.gov and click on “Make an E-Filing,” and then follow the instructions for each screen. First time users will have to establish a user name and password. The Commission will send an automatic acknowledgement to the sender's e-mail address upon receipt of comments. User assistance for electronic filings is available at 202-502-8258 or by e-mail to efiling@ferc.gov. Comments should not be submitted to this e-mail address.

All comments may be viewed, printed or downloaded remotely via the Internet through FERC's homepage using the “eLibrary” link. Enter the docket number excluding the last three digits in the docket number field to access the document. For user assistance, contact FERCOnlineSupport@ferc.gov or toll-free at (866) 208-3676, or for TTY, contact (202) 502-8659.

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC 592 “Marketing Affiliates of Interstate Pipelines”.

2. Sponsor: Federal Energy Regulatory Commission.

3. Control No.: 1902-0157.

The Commission is now requesting that OMB approve and extend the expiration date for an additional three years with no changes to the existing collection. The information filed with the Commission is mandatory.

4. Necessity of the Collection of Information: Submission of the information is necessary for the Commission to carry out its responsibilities in implementing the Statutory provisions of sections 4, 5, 7, 8, 10, 14, 16, and 20 of the Natural Gas Act (NGA) 15 U.S.C. 717-717w and Title II, section 311 and sections 501 and 504 of the Natural Gas Policy Act (Pub. L. 95-621).

The FERC-592 requirements apply to “Transmission Providers” who are defined as any interstate natural gas pipeline that transports gas for others, subject to the Natural Gas Act (i.e., pursuant to subpart A of part 157 or subparts B or G of part 284). See 18 CFR 358.3(a)(1) and (2). A Transmission Provider does not include a natural gas storage provider authorized to charge market-based rates that is not interconnected with the jurisdictional facilities of any affiliated interstate natural gas pipeline, has no exclusive franchise area, no captive ratepayers or no market power, 18 CFR 358.3(a)(3).

Initially, FERC-592 was adopted when the Commission issued the Standards of Conduct in Order No. 497, 53 FR 22161, June 14, 1988. The Standards of Conduct prevent Transmission Providers from discriminating against non-affiliated shippers or from granting undue preferences to their marketing affiliates. In response to growing competition in the natural gas marketplace and to further ensure that it could monitor transactions for the exercise of market power, the Commission revised its reporting requirements in Order No. 637, 65 FR 10219, on February 25, 2000. The Commission required pipelines to post more transmission information on their Internet websites to improve transparency of transmission information.

With the revisions in Order No. 637, the Commission also eliminated many of the requirements of the original FERC-592s. First the Commission eliminated the requirement to submit the FERC-592 information to the Commission. Second the Commission eliminated many of the items required under the FERC-592 requirements and retained only two requirements: (1) a pipeline must retain information pertaining to discounts (affiliated and non-affiliated) and, (2) if a pipeline relies on contract information or other data to allocate capacity, it must maintain a log of that information for all shippers (affiliated and non-affiliated).

In November 2003, the Commission enhanced and expanded the Standards of Conduct in Order No. 2004 and subsequently in Order Nos. 2004-A, B, C, and D. However, Order No. 2004 did not substantively change the FERC-592 requirements, which applies only to natural gas Transmission Providers.

While there are many different requirements under the Standards of Conduct, the basic requirements are that a Transmission Provider must: (1) function independently from its Marketing and Energy Affiliates; and (2) must treat all transmission customers, affiliated and non-affiliated, on a non-discriminatory basis and may not operate its transmission system to preferentially benefit its Marketing or Energy Affiliates. See 18 CFR 358.2.

This information contained in the FERC-592s is used by the Commission, market participants and state commissions to monitor for undue discrimination by pipeline companies in favor of their marketing affiliates and in some cases, this information is used in formal proceedings following the filing of a complaint.

5. Respondent Description: The respondent universe currently comprises 85 companies (on average) subject to the Commission's jurisdiction.

6. Estimated Burden: 9,913 total hours, 85 respondents (average), 1 response per respondent, and 117 hours per response (average).

7. Estimated Cost Burden to Respondents: 9,913 hours/2080 hours per years × $117,321 per year = $559,136. The cost per respondent is equal to $6,578.

Statutory Authority: Statutory provisions of sections 4, 5, 7, 8, 10, 14, 16, and 20 of the Natural Gas Act (NPA) 15 U.S.C. 717-717w and Title II, section 311 and sections 501 and 504 of the Natural Gas Policy Act (Pub. L. 95-621).

Magalie R. Salas,
Secretary.

[FR Doc. E6-16533 Filed 10-5-06; 8:45 am]

BILLING CODE 6717-01-P